DEPARTMENT OF HEALTH AND HUMAN SERVICES

Centers for Disease Control and Prevention

[60Day-08-08AO]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Children's Peer Relations and the Risk for Injury at School—New—National Center for Injury Prevention and Control (NCIPC), Coordinating Center for Environmental Health and Injury Prevention (CCEHIP), Centers for Disease Control and Prevention (CDC).

Background and Brief Description

Injuries are responsible for more deaths than all other causes combined for people under 19. In 2003, the Centers for Disease Control and Prevention (CDC) estimated that, annually, one in four children sustain an injury severe enough to warrant medical care, school absence, or bed rest. An investigation of modifiable risk factors for childhood injuries is necessary to improve the health of children.

The Division of Unintentional Injury Prevention at the CDC will investigate the relation between children's social behaviors and experiences at school and school injuries. Peer nominated and teacher rated social behaviors will be collected and compared to injury rates measured in the school health room of 3rd-5th graders at one public elementary school with an ethnically diverse and lower socioeconomic status student body. From this data, a behavioral risk profile for injury will be derived. By learning which children are at risk based on various behavioral characteristics, successful secondary injury prevention strategies may be targeted when resources do not allow universal prevention. The main hypothesis of the study is that children with maladaptive behaviors and social experiences (e.g., aggression, bullying, social withdrawal, peer rejection) will be more at risk for injury than their well-adapted peers.

Information collected will include one-time peer nominations of social behaviors and peer relationships and one-time teacher report data of children's behavior that will reflect children's behavior across a school year as well as injury event reports from that school year as determined by school health room visits for injury. Injury event reports will be compiled by the school health room aide. By learning about risk factors for injuries at school, interventions may be created, which can reduce the burden of injuries to children and the disruption to children's classroom time, and may even impact the amount of time parents must take off from work to pick up their children.

There is no cost to respondents except for their time.

Estimated Annualized Burden Hours
Respondents | Number of respondents | Number of responses per respondent | Average burden per response (in hours) | Total burden (in hours)
Teachers | 11 | 1 | 3 | 33
School Health Room Aide | 1 | 1 | 30 | 30
Students | 276 | 1 | 45/60 | 207
Total |  |  |  | 270

Dated: February 5, 2008.
Maryam I. Daneshvar,
Acting Reports Clearance Officer, Centers for Disease Control and Prevention.

[FR Doc. E8-2585 Filed 2-12-08; 8:45 am]

BILLING CODE 4163-18-P